DEPARTMENT OF DEFENSE

Department of the Air Force

Notice of Availability of Software and Documentation for Licensing

AGENCY: Air Force Research Laboratory, Department of the Air Force.

ACTION: Availability of MESHMORPH software and documentation for licensing.

SUMMARY: Pursuant to the provisions of Section 801 of Public Law 113-66 (2014 National Defense Authorization Act); the Department of the Air Force announces the availability of MESHMORPH software and related documentation for Automated Computational Mesh Metamorphosis, which automatically updates an existing source mesh of three dimensional points and connectivities to a target mesh generated from a three dimensional coordinate measurement system or computer aided design system.

ADDRESSES: Licensing interests should be sent to: Air Force Research Laboratory, Aerospace Systems Directorate, AFRL/RQOB, 2130 8th Street, Wright-Patterson AFB, OH 45433; Facsimile: (937) 255-6788.

FOR FURTHER INFORMATION CONTACT: Air Force Research Laboratory, Aerospace Systems Directorate, AFRL/RQOB, 2130 8th Street, Wright-Patterson AFB, OH 45433; Facsimile: (937) 255-6788.

SUPPLEMENTARY INFORMATION: MESHMORPH Software is applicable to any field where a computational mesh needs to be modified to match new target geometries, such as a new design configuration or measured geometries of manufactured components. This would include almost all fields related to engineering including mechanical, biomedical, aeronautical, and aerospace engineering disciplines. These fields base their design processes on computational meshes, whether they be finite element structural and heat transfer models or computational fluid dynamics predictions. The computer graphs industry also relies heavily on updating tessellated surfaces to new locations and would also benefit from use of this software.

Henry Williams,
Acting Air Force Federal Register Liaison Officer.

[FR Doc. 2016-23776 Filed 9-30-16; 8:45 am]

BILLING CODE 5001-10-P